DEPARTMENT OF THE INTERIOR

Fish and Wildlife Service

[FWS-R1-NWRS-2022-N004; FXRS12610100000-223-FF01R00000]

Record of Decision for the Final Environmental Impact Statement for the Bighorn Sheep Management Plan, Hart Mountain National Antelope Refuge, Lake County, OR

AGENCY: Fish and Wildlife Service, Interior.

ACTION: Notice of availability; record of decision.

SUMMARY: We, the U.S. Fish and Wildlife Service (Service), announce the availability of a record of decision (ROD) for the final environmental impact statement for the Bighorn Sheep Management Plan for Hart Mountain National Antelope Refuge in Oregon. The ROD documents the Service's decision to select a preferred alternative comprised of a combination of bighorn sheep habitat improvement and population management actions.

ADDRESSES: You may obtain copies of the ROD and other documents associated with the decision by the following methods.

• Internet: https://www.fws.gov/refuge/hart_mountain/.

• Upon Request: You may request alternative formats of the documents directly from the Service (see FOR FURTHER INFORMATION CONTACT).

FOR FURTHER INFORMATION CONTACT: Shannon Ludwig, by telephone at 541-947-3315, or by email at shannon_ludwig@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), announce the availability of a record of decision (ROD) for the final environmental impact statement for the Bighorn Sheep Management Plan at the Hart Mountain National Antelope Refuge (Refuge), in Lake County, Oregon. The ROD documents the Service's decision to select Alternative D, Comprehensive Integrated Management (Preferred), which is a combination of bighorn sheep habitat improvement and population management actions.

The bighorn sheep herd on the Refuge has declined from approximately 150 animals in 2017, to as few as 48 in 2020. Consequently, the herd is at risk of extirpation (local extinction) in the next few years without prompt management intervention. In response to the decline, the Service developed a bighorn sheep management plan and final environmental impact statement (EIS) to analyze existing data and identify alternatives and actions needed to restore the herd to a sustainable population level. The EIS analyzes four alternatives: Continuing current management; a habitat management focus; a predator control focus; and a preferred alternative, which is a combination of habitat management and predator control. The alternatives reflect the urgency to implement short-term management actions that are based on the best available science, in combination with mid-to-long-term management and monitoring.

The ROD documents the Service's decision to select Alternative D, the Comprehensive Integrated Management approach. Considering complex interactions between habitat features and demographic factors that ultimately determine the sustainability of bighorn sheep on the Refuge, we prefer an integrated management approach. Alternative D includes a long-term focus on habitat improvement and a shorter-term focus on bighorn sheep and predator population management.

We are advising the public of the availability of the ROD, developed in compliance with agency decision making requirements of the National Environmental Policy Act of 1969, as amended (NEPA; 42 U.S.C. 4321 et seq.). Our draft EIS and final EIS were made available to the public via Environmental Protection Agency (EPA) Federal Register notices on April 30, 2021 (86 FR 22963), and December 3, 2021 (86 FR 68661), respectively. In the draft and final EIS documents, we described in detail, evaluated, and analyzed all alternatives. Because we initiated the EIS process prior to the September 14, 2020, effective date for the Council on Environmental Quality's updated NEPA regulations, the final EIS and ROD were completed consistent with the previous regulations (40 CFR 1506.13).

Authority

We provide this notice in accordance with the requirements of NEPA (42 U.S.C. 4321 et seq.) and its implementing regulations (40 CFR 1506.6; 43 CFR part 46).

Hugh Morrison,
Acting Regional Director.

[FR Doc. 2022-11225 Filed 5-24-22; 8:45 am]

BILLING CODE 4333-15-P